DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Public Telecommunications Facilities Program Grant Monitoring.

OMB Control Number: 0660-0001.

Form Number(s): None.

Type of Review: Extension of currently approved collection.

Burden Hours: 5,080.

Number of Respondents: 1,950.

Average Hours Per Response: 28.

Needs and Uses: NTIA administers the Public Telecommunications Facilities Program (PTFP). The purpose of the program is to assist, through matching funds, in the planning and construction of public telecommunications facilities. The reporting requirements include (1) Construction schedules/planning timetables to enable NTIA/PTFP to monitor a project through quarterly performance reports, which alert NTIA/PTFP if the project is on-schedule for completion; (2) close-out reports to ensure the agency that Federal funds were expended in accordance with the grant award; and (3) annual reports to assure the agency that the Federal interest is maintained and protected for the statutorily specified 10-year period.

Affected Public: Not-for-profit institutions; State, local, or tribal governments.

Frequency: Quarterly; annually.

Respondent's Obligation: Required to retain benefits.

OMB Desk Officer: Nicholas Fraser, (202) 395-5887.

Copies of the above information collection proposal can be obtained by calling or writing Diana Hynek, Departmental Paperwork Clearance Officer, (202) 482-0266, Department of Commerce, Room 7845, 1401 Constitution Avenue, NW., Washington, DC 20230 (or via the Internet at dHynek@doc.gov).

Written comments and recommendations for the proposed information collection should be sent within 30 days of publication of this notice to Nicholas Fraser, OMB Desk Officer, FAX number (202) 395-7258 or via the Internet at Nicholas_A._Fraser@omb.eop.gov.

Dated: August 25, 2009.
Gwellnar Banks,
Management Analyst, Office of the Chief Information Officer.

[FR Doc. E9-20855 Filed 8-28-09; 8:45 am]

BILLING CODE 3510-60-P